POSTAL SERVICE

39 CFR Part 111

Domestic Mail Manual (DMM) Issue 58: Miscellaneous Amendments

AGENCY: Postal Service

ACTION: Final rule.

SUMMARY: This document describes the numerous amendments consolidated in the Transmittal Letter for Issue 58 of the Domestic Mail Manual (DMM), which is incorporated by reference in Title 39 Code of Federal Regulations, part 111.1 (39 CFR 111.1). These amendments reflect changes in mail preparation requirements and other mailing rules and regulations.

EFFECTIVE DATE: August 10, 2003.

FOR FURTHER INFORMATION CONTACT: Jane Stefaniak, United States Postal Service, Mailing Standards, (703) 292-3548.

SUPPLEMENTARY INFORMATION: The Domestic Mail Manual (DMM), incorporated by reference in Title 39 Code of Federal Regulations, part 111, contains the basic standards of the U.S. Postal Service® (Postal Service) governing its domestic mail services, descriptions of the mail classes and special services and the conditions governing their use, and the standards for rate eligibility and mail preparation. The document is amended and republished periodically, with each issue sequentially numbered. DMM Issue 58, the current printed edition, is dated August 10, 2003. Issue 58 contains all changes published prior to that date. Announcements of the changes appearing in DMM Issue 58 were first published in the Federal Register and/or various issues of the Postal Bulletin, an official biweekly document published by the Postal Service. Interim updates to the DMM are posted monthly on the Postal Service Postal Explorer Web site (http://pe.usps.gov).

In addition, the revised table of contents for DMM Issue 58 is provided.

Domestic Mail Manual (DMM) Issue 58

Summary of Changes by DMM Module

A Addressing

A010.6.1 and 6.3 are revised to update the addressing requirements for overseas military mail. These revisions remove the requirement that mail sent to APO/FPO addresses include a military person's grade, rank, or rating in the address line. Effective 4-17-03.

A030 is added; A040 is redesignated as A020; A800.3.0 is deleted; and additional portions of Module A are revised to consolidate many of the critical addressing requirements for Presorted and automation rate mail and to update information for several Address Information System (AIS) products. Effective 6-12-03.

A030.1.4, A910.6.1, and A950.1.3 are revised to add National Change of Address Linkage System Product or NCOALink as an additional method for preparing Presorted and automation rate First-Class Mail® pieces to meet the Move Update standard. Effective 6-26-03.

A030.1.4 is revised to clarify that all ancillary service endorsements, except “Forwarding Service Requested,” meet the Move Update standard for Presorted and automation rate First-Class Mail. Effective 6-26-03.

A040.1.0 (renumbered A020.1.0) and A040.4.3 (renumbered E050.2.3) are revised to clarify the preparation requirements for letters and flats that use the simplified address format. Additionally, all congressional mailings using the simplified address format will use Tag 11 on all containers to ensure appropriate handling through downstream Postal Service processes. Effective 11-14-02.

C Characteristics and Content

Portions of Module C are revised to consolidate many of the critical addressing requirements for Presorted and automation rate mail and to update information for several AIS products. Effective 6-12-03.

C010.1.0 and C600 are revised to add Customized MarketMail (CMM), a new option for mailing nonrectangular and irregular-shaped Regular Standard Mail and Nonprofit Standard Mail pieces. Effective 8-10-03.

C021, C023, C024.18.0, C050.2.2 are revised to align the Postal Service mailing standards for Division 6.2 infectious substances with the regulations adopted by the U.S. Department of Transportation and to incorporate other minor changes and clarifications related to hazardous materials mailing standards. Effective 6-12-03.

C050.2.2 and C100.2.7c are revised to correct and clarify the text. Effective 4-3-03.

C100 is revised to clarify and expand the standards that apply to First-Class Mail card rates. Effective 10-3-02.

C100 and C700.1.0 are revised to clarify that, for First-Class Mail or Package Services, Delivery Confirmation™ or Signature Confirmation™ may be used only for parcels and not for letter-size or flat-size mail. Effective 7-10-03.

C100.2.6 is revised to further clarify the format standards for displaying a message area on the address side of a First-Class Mail card rate mailpiece that is divided horizontally. Effective 4-3-03.

C200.3.0 and C820.7.0 are revised to reorganize and clarify the existing standards that apply to the uniformity of automation flats. Effective 11-14-02.

C600.4.0 is revised to clarify that Customized MarketMail (CMM) pieces, whether letter-size or flat-size, are not subject to the Standard Mail nonmachinable surcharge in E620. Effective 8-10-03.

C810.7.0 is added to allow repositionable notes to be applied to First-Class Mail and Standard Mail letter-size pieces that otherwise qualify for automation letter rates, if certain standards are met. A repositionable note is a 3 inch by 3 inch paper attached to a letter-size mailpiece with an adhesive strip. The note is designed to be removed by the recipient and “repositioned” for future reference or use (e.g., on a telephone, refrigerator, or computer). Effective 4-3-03.

C820 Exhibit 4.1b (renumbered C820.4.2 and C820.4.3) is revised to clarify the wrapping instructions for the automated flat sorting machine (AFSM) 100 polywrapped automation flats. Effective 9-5-02.

C820.1.0 and C820.4.0 are revised to clarify standards for the use of polywrap for flat-size mailpieces claimed at automation rates and the certification program for polywrap. Effective 7-10-03.

C850.1.4 is revised to amend the barcode requirements for Delivery Confirmation and Signature Confirmation labels. Effective 6-27-02.

C850.3.1 is revised to allow the placement of the postal routing barcode in locations other than adjacent to the address. Effective 8-7-03.

D Deposit, Collection, and Delivery

D042.7.0 is revised to add CMM, a new option for mailing nonrectangular and irregular-shaped Regular Standard Mail and Nonprofit Standard Mail pieces. Effective 8-10-03.

D072 is revised to clarify the application process for drop shipment authorization of presorted metered mail and to specify that mailers must pay the applicable mailing fees and meet all other conditions for presenting mail for verification and acceptance at the office(s) of entry. Effective 6-12-03.

E Eligibility

Portions of Module E are revised to consolidate many of the critical addressing requirements for Presorted and automation rate mail and to update information for several AIS products. Effective 6-12-03.

Module E is revised to change mail preparation standards for AFSM 100-compatible flat-size mail for Periodicals, Standard Mail, and Bound Printed Matter (BPM) mailings. In addition, there are changes to Periodicals flat-size and irregular parcel mailings, Standard Mail flat-size mailings, and BPM flat-size and irregular parcel mailings that are placed in certain 3-digit sacks, on 5-digit scheme pallets, and on optional 3-digit pallets. Effective 1-9-03.

E010.2.3 is revised to correct and clarify the text. Effective 4-3-03.

E040 is revised to clarify and simplify the eligibility standards for free matter for the blind and other physically handicapped persons. Effective 8-8-02.

E110 is revised to clarify and expand the standards that apply to First-Class Mail card rates. Effective 10-3-02.

E230.3.3 is revised to clarify the preparation requirements for letters and flats that use the simplified address format. Additionally, all congressional mailings using the simplified address format will use Tag 11 on all containers to ensure appropriate handling through downstream Postal Service processes. Effective 11-14-02.

E230.4.0 is deleted since the text on Periodicals publications prepared in combined or copalletized mailings is clarified and expanded in M230. Effective 3-6-03.

E610.2.3 is revised to clarify the eligibility standards for computer-prepared material mailed at Standard Mail rates. Effective 6-12-03.

E610.9.0 is revised to allow mailers to use the “Change Service Requested” endorsement with Delivery Confirmation and Signature Confirmation. Effective 10-3-02.

E620.4.0 and E660.2.0 are revised to clarify that CMM pieces, whether letter-size or flat-size, are not subject to the Standard Mail nonmachinable surcharge in E620. Effective 8-10-03.

E650, E751, and E752.2.0 are revised to include changes to the standards governing the deposit of destination bulk mail center (DBMC) rate Standard Mail and Package Services machinable parcels at the Buffalo auxiliary service facility (ASF) and the Pittsburgh bulk mail center (BMC). Effective 11-14-02.

E650.1.3 and E752.1.2 are revised to clarify the application of the minimum volume requirement for Standard Mail and BPM prepared using plant-verified drop shipment (PVDS) procedures. Effective 7-10-03.

E650.5.4 is revised to allow mailers the option of placing onto BMC and ASF pallets specially sorted packages, sacks, and trays of mixed area distribution center (ADC) Standard Mail. Effective 10-3-02.

E660 is added and E110.1.1, E610, E620.3.0, E630.5.0, E650.1.1, and E710.1.1 are revised to add CMM, a new option for mailing nonrectangular and irregular-shaped Regular Standard Mail and Nonprofit Standard Mail pieces. Effective 8-10-03.

E670.5.11 is revised to update the maximum value of low-cost items mailable at the Nonprofit Standard Mail rates. Effective 2-6-03.

E670.11.4 is revised to provide that an organization's primary authorization to mail at Nonprofit Standard Mail rates will not be revoked for nonuse if the organization has mailed at the nonprofit rates at any additional mailing office based upon that primary authorization. Effective 5-1-03.

E751 Exhibit 6.0 is revised to add a ZIP Code for Parcel Select® mail entered at a BMC. Effective 6-27-02.

E751 Exhibit 8.0 is corrected to delete five ZIP Codes and add one ZIP Code. Effective 10-3-02.

E751 Exhibit 8.0 is amended to add ZIP Codes. Effective 12-12-02.

E751 Exhibit 8.0 is amended to delete ZIP Codes. Effective 5-1-03.

E751 Exhibit 8.0 is amended to delete two ZIP Codes. Effective 8-7-03.

F Forwarding and Related Services

Portions of Module F are revised to consolidate many of the critical addressing requirements for Presorted and automation rate mail and to update information for several AIS products. Effective 6-12-03.

F010 and F030 are revised to expand and clarify the standards related to Address Change Service (ACS). Effective 1-23-03.

F010.5.0 is revised to allow mailers to use the “Change Service Requested” endorsement with Delivery Confirmation and Signature Confirmation. Effective 10-3-02.

F010.5.0 is revised to incorporate changes and clarifications related to hazardous materials mailing standards. Effective 6-12-03.

F010.5.3 is revised to add CMM, a new option for mailing nonrectangular and irregular-shaped Regular Standard Mail and Nonprofit Standard Mail pieces. Effective 8-10-03.

G General Information

G091, G092, and G095 are redesignated as G991, G992, and G995, respectively; G900 is redesignated as G090; and G910 is added to provide requirements for negotiated service agreements (NSAs) that would be treated as comparable to those which form the basis for experimental mail classifications established in accordance with Chapter 36 of Title 39 of the United States Code. Published in PB 22104 (6-12-03).

G092 (renumbered G992) is added to implement a new experiment testing whether additional rate incentives will encourage the copalletization and drop shipment of individual Periodicals publications. The experiment includes two per piece discounts for copalletization of Periodicals publications that otherwise would have been prepared in sacks. Effective 4-20-03.

G092 (renumbered G992) is revised to specify that certain co-palletization data must be reported on a monthly basis under 3.0 and is not required at the time of mailing. Effective 4-20-03.

G995 is deleted to reflect the expiration of the experimental classification for Presorted Priority Mail. Effective 7-15-03.

L Labeling Lists

Labeling lists are periodically updated to reflect changes in mail processing operations. Please see individual lists.

Module L is revised to change mail preparation standards for AFSM 100-compatible flat-size mail for Periodicals, Standard Mail, and BPM mailings. In addition, there are changes to Periodicals flat-size and irregular parcel mailings, Standard Mail flat-size mailings, and BPM flat-size and irregular parcel mailings that are placed in certain 3-digit sacks, on 5-digit scheme pallets, and on optional 3-digit pallets. Effective 1-9-03.

L601 and L602 are revised to include changes to the standards governing the deposit of DBMC rate Standard Mail and Package Services machinable parcels at the Buffalo ASF and the Pittsburgh BMC. Effective 11-14-02.

M Mail Preparation and Sortation

Portions of Module M are revised to consolidate many of the critical addressing requirements for Presorted and automation rate mail and to update information for several AIS products. Effective 6-12-03.

Module M is revised to change mail preparation standards for AFSM 100-compatible flat-size mail for Periodicals, Standard Mail, and BPM mailings. In addition, there are changes to Periodicals flat-size and irregular parcel mailings, Standard Mail flat-size mailings, and BPM flat-size and irregular parcel mailings that are placed in certain 3-digit sacks, on 5-digit scheme pallets, and on optional 3-digit pallets. Effective 1-9-03.

M013 is revised to expand and clarify the standards related to ACS. Effective 1-23-03.

M013.2.0 is revised and M013.3.0 is added to allow placement of an ACS participant code in a new optional location. Effective 10-3-02.

M013.2.5, M045.3.2, M610, M810.2.2, and M820.5.3 are revised to allow mailers the option of placing onto BMC and ASF pallets specially sorted packages, sacks, and trays of mixed ADC Standard Mail. Effective 10-3-02.

Exhibit M013.2.5, M610.2.2, M810.2.2, and M820.5.3 are revised to correct the DMM standards that allow mailers preparing mail on pallets under the option in M045.3.2 to use L802 to label packages, sacks, and trays of mixed ADC mail and mixed AADC mail placed onto BMC and ASF pallets. Effective 5-1-03.

M013.3.2 is revised to allow placement of an ACS participant code on flat-size mailpieces. Effective 1-9-03.

M031.1.7, M031.4.11, M032.1.3, M045.8.2, and M230 are revised to clarify when it is permissible to use the designation “NEWS” rather than the designation “PER” on Line 2 (the content line) of labels that identify sacks, trays, and pallets containing copies of Periodicals publications prepared in combined mailings or in copalletized mailings. Effective 3-6-03.

M032, M033.2.2, and M910.3.0 are revised to clarify the use of letter trays rather than sacks when preparing and palletizing certain sizes of Standard Mail flat-size pieces and to add co-traying as an option. Effective 7-10-03.

M032, M033.1.2, M033.2.0, M610.1.1, M610.4.5, M620.1.1, and M820.5.2 are revised to allow mailers to use letter trays rather than sacks when preparing and palletizing certain sizes of Standard Mail flat-size pieces. This option applies to Standard Mail flat-size pieces claimed at automation rates, as well as flat-size pieces claimed at Enhanced Carrier Route rates. Effective 11-14-02.

M033.2.2c is revised to allow the placement of smaller size pieces in two rows in a single tray, provided that the two rows run parallel to each other, with the address side of the pieces all faced toward the end (short dimension) of the tray and perpendicular to the entire length (long dimension) of the tray. Effective 2-6-03.

M041 is revised by excluding the use of metal strapping or metal banding material for securing pallets of mail, whether an individual pallet of mail, a pallet composed of several individual pallets stacked to form a single unit, or a pallet with a pallet box containing mail. Effective 5-30-03.

M050.2.0 is deleted to support new procedures for calculating revenue deficiencies for sequenced mail. Effective 11-14-02.

M110.1.0 is revised to correct and clarify the text. Effective 4-3-03.

M110.1.0c is corrected to state that all permit imprint mail must be faced and packaged. Effective 4-17-03.

M220.1.1 and M220.3.0 are revised to clarify the preparation requirements for letters and flats that use the simplified address format. Additionally, all congressional mailings using the simplified address format will use Tag 11 on all containers to ensure appropriate handling through downstream Postal Service processes. Effective 11-14-02.

M610.1.4 and M620.1.3 are deleted and M820.1.8 and M820.1.10 are revised to eliminate the letter-size preparation requirements for nonautomation Standard Mail pieces combined in a mailing with palletized automation flats. Effective 8-8-02.

M610.2.1 is revised to correct an error in the packaging standards for Standard Mail machinable letter-size pieces. Effective 3-6-03.

M610.4.3, M820.5.1, and M950.3.2 are revised to change the minimum number of pieces required for 5-digit packages of automation and Presorted rate Standard Mail flats. Effective 9-5-02.

M660 is added and M011.1.4, M012.2.1, M032 Exhibit 1.3, and M072.1.0 are revised to add CMM, a new option for mailing nonrectangular and irregular-shaped Regular Standard Mail and Nonprofit Standard Mail pieces. Effective 8-10-03.

M820.5.1 is revised to clarify the packaging standards for automation rate Standard Mail flat-size pieces sorted using the 5-digit scheme under L007. Effective 3-6-03.

M910 and M950 are revised to provide new mail preparation standards for the co-packaging and co-sacking of flat-size BPM mailpieces. Related revisions are made to M011, M032, M722, and M820 to support the new co-packaging and co-sacking standards. Effective 4-3-03.

M910.1.1h, M910.2.1g, M910.3.1h, M920.2.1m, and M940.2.1l are corrected to remove the references to Manifest Analysis and Certification (MAC) software. Effective 2-6-03.

M920.1.5f, M920.2.5e, M930.1.5f, M930.2.4e, M940.1.5f, and M940.2.4e are corrected to remove the references to 5-digit scheme (L001) pallets. Effective 2-6-03.

M920.2.5, M930.2.4, and M940.2.4 are revised to allow mailers using the advanced preparation options for flat-size mail to place certain mixed ADC packages on ASF or BMC pallets. Effective 2-6-03.

P Postage and Payment Methods

P014 is revised to update the administrative charges for processing refunds for unused meter stamps and business reply mail pieces returned with postage affixed. Effective 1-1-03.

P014 is revised to clarify the refund policy for unused postage evidencing system indicia on mailpieces or labels. Effective 7-11-02.

P014.4.1, P014.4.12, P014.4.13, and P040.1.1 are revised to correct and clarify the text. Effective 4-3-03.

P023.3.1 and P023.3.2 are revised to clarify the approval process for mailer authorizations to preprint rate markings on precanceled stamps or to use a precancel postmark on adhesive stamps, stamped cards, and stamped envelopes. Effective 3-6-03.

P030 is revised to clarify the required contents and format of meter indicia printed by meters and other postage evidencing systems in Postal Service facilities. Effective 1-9-03.

P030 is revised to clarify the required contents and format of meter indicia. Effective 10-3-02.

Exhibit P040.4.1b is revised to add CMM, a new option for mailing nonrectangular and irregular-shaped Regular Standard Mail and Nonprofit Standard Mail pieces. Effective 8-10-03.

R Rates and Fees

R600 is revised to add CMM, a new option for mailing nonrectangular and irregular-shaped Regular Standard Mail and Nonprofit Standard Mail pieces. Effective 8-10-03.

R900.4.0 is revised to change all instances of “per piece charges” to “per piece fees.” This change aligns the text in the DMM with the terminology used in the Domestic Mail Classification Schedule (DMCS), which is part of Title 39 Code of Federal Regulations (39 CFR). Effective 7-10-03.

R900.9.0 is revised to reflect the implementation of Confirm service. Effective 9-22-02.

S Special Services

S070.1.1 and S500.2.0 are revised to add CMM, a new option for mailing nonrectangular and irregular-shaped Regular Standard Mail and Nonprofit Standard Mail pieces. Effective 8-10-03.

S500.1.2 and S919.1.5 are revised to add new options for obtaining proof of delivery information for Express Mail and Signature Confirmation. Effective 7-10-03.

S911 and S912 are revised to include the toll-free number and clarify the options for retrieving the delivery status of Registered Mail and Certified Mail. Effective 5-20-03.

S918 and S919 are revised to add new language for the preparation and submission of PS Form 3152. Effective 7-11-02.

S918.1.0 and S919.1.0 are revised to clarify that, for First-Class Mail or Package Services, Delivery Confirmation or Signature Confirmation may be used only for parcels and not for letter-size or flat-size mail. Effective 7-10-03.

S922, S923, and S924 are revised to change all instances of “per piece charges” to “per piece fees.” This change aligns the text in the DMM with the terminology used in the Domestic Mail Classification Schedule (DMCS), which is part of Title 39 Code of Federal Regulations (39 CFR). Effective 7-10-03.

S922.4.0 is amended to allow the “No Postage Necessary” imprint, the business reply legend, and the horizontal bars required on business reply mail to be printed on an insert appearing through an address window. Effective 11-28-02.

S941 is added to reflect the implementation of Confirm” service. Effective 9-22-02.

List of Subjects in 39 CFR Part 111

Administrative practice and procedure, Postal Service.

In consideration of the foregoing, 39 CFR part 111 is amended as set forth below:

PART 111—[AMENDED]

1. The authority citation for 39 CFR part 111 continues to read as follows:

Authority: 5 U.S.C. 552(a); 39 U.S.C. 101, 401, 403, 404, 414, 3001-3011, 3201-3219, 3403-3406, 3621, 3626, 5001.

2. The table at the end of Section 111.3(f) is amended by correcting the entry for Transmittal letter issue 56 and adding a new entry for Transmittal letter issue 58 to read as follows:

§ 111.3 Amendments to the Domestic Mail Manual.

* * * * *

(f) * * *

Transmittal letter for issue | Dated | Federal Register publication
* * * * *
56 | January 7, 2001 | 66 FR 8370.
* * * * *
58 | August 10, 2003 | [INSERT FR CITATION FOR THIS FINAL RULE].

3. Section 111.5 is revised to read as follows:

§ 111.5 Contents of the Domestic Mail Manual.

A ADDRESSING

A000 Basic Addressing

A010 General Addressing Standards

A020 Alternative Addressing Standards

A030 Address Quality

A060 Detached Address Labels (DALs)

A800 Addressing for Barcoding

A900 Customer Support

A910 Mailing List Services

A920 Address Sequencing Services

A930 Other Services

A950 Coding Accuracy Support System (CASS)

C CHARACTERISTICS AND CONTENT

C000 General Information

C010 General Mailability Standards

C020 Restricted or Nonmailable Articles and Substances

C021 Articles and Substances Generally

C022 Perishables

C023 Hazardous Materials

C024 Other Restricted or Nonmailable Matter

C030 Nonmailable Written, Printed, and Graphic Matter

C031 Written, Printed, and Graphic Matter Generally

C032 Sexually Oriented Advertisements

C033 Pandering Advertisements

C050 Mail Processing Categories

C100 First-Class Mail

C200 Periodicals

C500 Express Mail

C600 Standard Mail

C700 Package Services

C800 Automation-Compatible Mail

C810 Letters and Cards

C820 Flats

C840 Barcoding Standards for Letters and Flats

C850 Barcoding Standards for Parcels

D DEPOSIT, COLLECTION, AND DELIVERY

D000 Basic Information

D010 Pickup Service

D020 Plant Load

D030 Recall of Mail

D040 Delivery of Mail

D041 Customer Mail Receptacles

D042 Conditions of Delivery

D070 Drop Shipment

D071 Express Mail and Priority Mail

D072 Metered Mail

D100 First-Class Mail

D200 Periodicals

D210 Basic Information

D230 Additional Entry

D500 Express Mail

D600 Standard Mail

D700 Package Services

D900 Other Delivery Services

D910 Post Office Box Service

D920 Caller Service

D930 General Delivery and Firm Holdout

E ELIGIBILITY

E000 Special Eligibility Standards

E010 Overseas Military Mail

E020 Department of State Mail

E030 Mail Sent by U.S. Armed Forces

E040 Free Matter for the Blind and Other Physically Handicapped Persons

E050 Official Mail (Franked)

E060 Official Mail (Penalty)

E070 Mixed Classes

E080 Absentee Balloting Materials

E100 First-Class Mail

E110 Basic Standards

E120 Priority Mail

E130 Nonautomation Rates

E140 Automation Rates

E150 Qualified Business Reply Mail (QBRM)

E200 Periodicals

E210 Basic Standards

E211 All Periodicals

E212 Qualification Categories

E213 Periodicals Mailing Privileges

E214 Reentry

E215 Copies Not Paid or Requested by Addressee

E216 Publisher Records

E217 Basic Rate Eligibility

E220 Presorted Rates

E230 Carrier Route Rates

E240 Automation Rates

E250 Destination Entry

E260 Ride Along

E270 Preferred Periodicals

E500 Express Mail

E600 Standard Mail

E610 Basic Standards

E620 Presorted Rates

E630 Enhanced Carrier Route Rates

E640 Automation Rates

E650 Destination Entry

E660 Customized MarketMail

E670 Nonprofit Standard Mail

E700 Package Services

E710 Basic Standards

E711 Parcel Post

E712 Bound Printed Matter

E713 Media Mail

E714 Library Mail

E750 Destination Entry

E751 Parcel Select

E752 Bound Printed Matter

E753 Combining Package Services Parcels

F FORWARDING AND RELATED SERVICES

F000 Basic Services

F010 Basic Information

F020 Forwarding

F030 Address Correction, Address Change, FASTforward, and Return Services

G GENERAL INFORMATION

G000 The USPS and Mailing Standards

G010 Basic Business Information

G011 Post Offices and Postal Services

G013 Trademarks and Copyrights

G020 Mailing Standards

G030 Postal Zones

G040 Information Resources

G042 Rates and Classification Service Centers

G043 Address List for Correspondence

G090 Philatelic Services

G900 Experimental Classification and Rate Filings

G910 Negotiated Service Agreements

G911 Capital One Services, Inc. NSA

G990 Experimental Classifications and Rates

G991 NetPost Mailing Online

G992 Outside-County Periodicals Copalletization Drop-Ship Classification

L LABELING LISTS

L000 General Use

L001 5-Digit Scheme—Periodicals Flats and Irregular Parcels, Standard Mail Flats, and BPM Flats

L002 3-Digit ZIP Code Prefix Matrix

L003 3-Digit ZIP Code Prefix Groups—3-Digit Scheme Sortation

L004 3-Digit ZIP Code Prefix Groups—ADC Sortation

L005 3-Digit ZIP Code Prefix Groups—SCF Sortation

L006 5-Digit Metro Scheme

L007 5-Digit Scheme—Periodicals, Standard Mail, and BPM Flats in Packages

L600 Standard Mail and Package Services

L601 BMCs

L602 ASFs

L603 ADCs—Irregular Standard Mail Parcels

L604 Originating ADCs—Standard Mail Irregular Parcels

L605 BMCs/ASFs—Nonmachinable Parcel Post BMC Presort and OBMC Presort

L606 5-Digit Scheme—Standard Mail and Package Services Parcels

L800 Automation Rate Mailings

L801 AADCs—Letter-Size Mailings

L802 BMC/ASF Entry—Periodicals, Standard Mail, and Bound Printed Matter

L803 Non-BMC/ASF Entry—Periodicals, Standard Mail, and Bound Printed Matter

M MAIL PREPARATION AND SORTATION

M000 General Preparation Standards

M010 Mailpieces

M011 Basic Standards

M012 Markings and Endorsements

M013 Optional Endorsement Lines

M014 Carrier Route Information Lines

M020 Packages

M030 Containers

M031 Labels

M032 Barcoded Labels

M033 Sacks and Trays

M040 Pallets

M041 General Standards

M045 Palletized Mailings

M050 Delivery Sequence

M070 Mixed Classes

M071 Basic Information

M072 Express Mail and Priority Mail Drop Shipment

M073 Combined Mailings of Standard Mail and Package Services Parcels

M074 Plant Load Mailings

M100 First-Class Mail (Nonautomation)

M110 Single-Piece First-Class Mail

M120 Priority Mail

M130 Presorted First-Class Mail

M200 Periodicals (Nonautomation)

M210 Presorted Periodicals

M220 Carrier Route Periodicals

M230 Combining Multiple Editions or Publications

M500 Express Mail

M600 Standard Mail (Nonautomation)

M610 Presorted Standard Mail

M620 Enhanced Carrier Route Standard Mail

M660 Customized Marketmail

M700 Package Services

M710 Parcel Post

M720 Bound Printed Matter

M721 Single-Piece Bound Printed Matter

M722 Presorted Bound Printed Matter

M723 Carrier Route Bound Printed Matter

M730 Media Mail

M740 Library Mail

M800 All Automation Mail

M810 Letter-Size Mail

M820 Flat-Size Mail

M900 Advanced Preparation Options for Flats

M910 Co-Traying and Co-Sacking Package of Automation and Presorted Mailings

M920 Merged Containerization of Packages Using the City State Product

M930 Merged Palletization of Packages Using a 5% Threshold

M940 Merged Palletization of Packages Using the City State Product and a 5% Threshold

M950 Co-Packaging Automation Rate and Presorted Rate Pieces

P POSTAGE AND PAYMENT METHODS

P000 Basic Information

P010 General Standards

P011 Payment

P012 Documentation

P013 Rate Application and Computation

P014 Refunds and Exchanges

P020 Postage Stamps and Stationery

P021 Stamped Stationery

P022 Postage Stamps

P023 Precanceled Stamps

P030 Postage Meters (Postage Evidencing Systems)

P040 Permit Imprints

P070 Mixed Classes

P100 First-Class Mail

P200 Periodicals

P500 Express Mail

P600 Standard Mail

P700 Package Services

P900 Special Postage Payment Systems

P910 Manifest Mailing System (MMS)

P920 Optional Procedure (OP) Mailing System

P930 Alternate Mailing Systems (AMS)

P950 Plant-Verified Drop Shipment (PVDS)

P960 First-Class or Standard Mail Mailings With Different Payment Methods

R RATES AND FEES

R000 Stamps and Stationery

R100 First-Class Mail

R200 Periodicals

R500 Express Mail

R600 Standard Mail

R700 Package Services

R900 Services

S SPECIAL SERVICES

S000 Miscellaneous Services

S010 Indemnity Claims

S020 Money Orders and Other Services

S070 Mixed Classes

S500 Special Services for Express Mail

S900 Special Postal Services

S910 Security and Accountability

S911 Registered Mail

S912 Certified Mail

S913 Insured Mail

S914 Certificate of Mailing

S915 Return Receipt

S916 Restricted Delivery

S917 Return Receipt for Merchandise

S918 Delivery Confirmation

S919 Signature Confirmation

S920 Convenience

S921 Collect on Delivery (COD) Mail

S922 Business Reply Mail (BRM)

S923 Merchandise Return Service

S924 Bulk Parcel Return Service

S930 Handling

S940 Mailpiece Information

S941 Confirm Service

I INDEX INFORMATION

I000 Information

I010 Summary of Changes

I020 References

I021 Forms Glossary

I022 Subject Index

Stanley F. Mires,
Chief Counsel, Legislative.

[FR Doc. 03-29337 Filed 11-24-03; 8:45 am]

BILLING CODE 7710-12-P